SMALL BUSINESS ADMINISTRATION

[Declaration of Disaster #3573]

State of Illinois (Amendment #1)

In accordance with a notice received from the Department of Homeland Security—Federal Emergency Management Agency, effective April 23, 2004, the above numbered declaration is hereby amended to establish the incident period for this disaster as beginning on April 20, 2004, and continuing through April 23, 2004.

All other information remains the same, i.e., the deadline for filing applications for physical damage is June 22, 2004, and for economic injury the deadline is January 24, 2005.

(Catalog of Federal Domestic Assistance Program Nos. 59002 and 59008.)

Dated: May 4, 2004.
Herbert L. Mitchell,
Associate Administrator for Disaster Assistance.

[FR Doc. E4-1070 Filed 5-10-04; 8:45 am]

BILLING CODE 8025-01-P